DEPARTMENT OF TRANSPORTATION

Federal Aviation Administration

14 CFR Part 26

[Docket No.: FAA-2004-18379; Amendment Nos. 1-60, 21-90, 25-123, 26-0, 91-297, 121-336, 125-53, 129-43]

RIN 2120-AI31

Enhanced Airworthiness Program for Airplane Systems/Fuel Tank Safety (EAPAS/FTS)

Correction

In rule document E7-21434 beginning on page 63364 in the issue of Thursday, November 8, 2007, make the following correction:

§26.11 [Corrected]

On page 63410, in §26.11(d)(5), in the first column, in the sixth line, “December 10, 2009” should read “June 7, 2010”.

[FR Doc. Z7-21434 Filed 12-4-07; 8:45 am]

BILLING CODE 1505-01-D